DEPARTMENT OF DEFENSE

Office of the Secretary

Reserve Forces Policy Board; Notice of Federal Advisory Committee Meeting

AGENCY: Office of the Secretary of Defense, Reserve Forces Policy Board, DoD.

ACTION: Notice of Federal Advisory Committee Meeting.

SUMMARY: The Department of Defense is publishing this notice to announce that the following Federal Advisory Committee meeting of the Reserve Forces Policy Board (RFPB) will take place.

DATES: Tuesday, June 9, 2015 from 9:05 a.m. to 4:05 p.m.

ADDRESSES: The address is the Pentagon, Room 3E863, Arlington, VA.

FOR FURTHER INFORMATION CONTACT: Mr. Alex Sabol, Designated Federal Officer, (703) 681-0577 (Voice), (703) 681-0002 (Facsimile), Email—Alexander.J.Sabol.Civ@Mail.Mil. Mailing address is Reserve Forces Policy Board, 5113 Leesburg Pike, Suite 601, Falls Church, VA 22041. Web site: http://rfpb.defense.gov/. The most up-to-date changes to the meeting agenda can be found on the RFPB's Web site.

SUPPLEMENTARY INFORMATION: This meeting notice is being published under the provisions of the Federal Advisory Committee Act of 1972 (FACA) (5 U.S.C., Appendix, as amended), the Government in the Sunshine Act of 1976 (5 U.S.C. 552b, as amended), and 41 CFR 102-3.150.

Purpose of the Meeting: The purpose of the meeting is to obtain, review and evaluate information related to strategies, policies, and practices designed to improve and enhance the capabilities, efficiency, and effectiveness of the Reserve Components.

Agenda: The RFPB will hold a meeting from 9:05 a.m. to 4:05 p.m. The meeting will be closed to the public and will consist of remarks to the RFPB from invited speakers that include Secretary of Defense; Acting Under Secretary of Defense (Personnel & Readiness); The Reserve Chiefs: Chief, National Guard Bureau; Chief, Navy Reserve; Commander, Marine Forces Reserve; Coast Guard, Director, Reserve and Military Personnel; Director, Air National Guard; Chief, Air Force Reserve; Director, Army National Guard; and Chief, Army Reserve; and RFPB member, MajGen Burke W. Whitman, USMCR. The Secretary of Defense will address future strategies for use of the Reserve Components, highlighting his thoughts on issues impacting reserve organizations, the right balance of Active and Reserve Component forces, and the cost to maintain a strong Reserve Component. The Acting Under Secretary of Defense (Personnel & Readiness) will present his thoughts and recommendations on Reserve Component cost, force mix, and future strategies for Reserve Component use given the national security challenges in a constrained fiscal environment. The Reserve Chiefs: Chief, National Guard Bureau; Chief, Navy Reserve; Commander, Marine Forces Reserve; Coast Guard, Director, Reserve and Military Personnel; Director, Air National Guard; Chief, Air Force Reserve; Director, Army National Guard; and Chief, Army Reserve will discuss their views on the continued relevance and use of the “Operational Reserve” concept in the current and future resource environment. As a part of the discussion, they will comment on anticipated resourcing positions and implications on future force structure/end strength; use of mob-to-dwell ratios to size and shape the force; current and anticipated readiness states and areas of greatest concern; and planned (FY15/16) use of forces/personnel in contingency and other operations. MajGen, Burke W. Whitman, USMCR will brief his observations on his recent deployment to Afghanistan.

Meeting Accessibility: Pursuant to 5 U.S.C. 552b, as amended, and 41 CFR 102-3.140 through 102-3.165, the closed meeting is from 9:05 a.m. to 4:05 p.m. and will not be accessible to the public. In accordance with section 10(d) of the FACA, 5 U.S.C. 552b, and 41 CFR 102-3.155, the Department of Defense has determined that this meeting scheduled to occur from 9:05 a.m. to 4:05 p.m. will be closed to the public. Specifically, the Acting Under Secretary of Defense (Personnel and Readiness), in coordination with the DoD FACA Attorney, has determined in writing that this meeting, in its entirety, will be closed to the public because it is likely to disclose classified matters covered by 5 U.S.C. 552b(c)(1).

Written Statements: Pursuant to 41 CFR 102-3.105(j) and 102-3.140 and section 10(a)(3) of the FACA, interested persons may submit written statements to the RFPB about its approved agenda or at any time on the RFPB's mission. Written statements should be submitted to the RFPB's Designated Federal Officer at the address or facsimile number listed in the FOR FURTHER INFORMATION CONTACT section. If statements pertain to a specific topic being discussed at the planned meeting, then these statements must be submitted no later than five (5) business days prior to the meeting in question. Written statements received after this date may not be provided to or considered by the RFPB until its next meeting. The Designated Federal Officer will review all timely submitted written statements and provide copies to all the committee members before the meeting that is the subject of this notice. Please note that since the RFPB operates under the provisions of the FACA, all submitted comments and public presentations will be treated as public documents and will be made available for public inspection, including, but not limited to, being posted on the RFPB's Web site.

Dated: May 19, 2015.
Aaron Siegel,
Alternate OSD Federal Register Liaison Officer, Department of Defense.

[FR Doc. 2015-12478 Filed 5-21-15; 8:45 am]

BILLING CODE 5001-06-P